COMMISSION ON CIVIL RIGHTS

Agenda and Notice of Public Meeting of the District of Columbia Advisory Committee

Notice is hereby given, pursuant to the provisions of the rules and regulations of the U.S. Commission on Civil Rights, that a meeting of the District of Columbia Advisory Committee to the Commission will convene at 8:30 a.m. and adjourn at 12:30 p.m. on Tuesday, June 20, 2000, at the U.S. Commission on Civil Rights, 5th Floor Conference Room (Room 540), 624 9th Street N.W., Washington, DC 20425. The Committee will develop questions for prospective panelists in preparation for its upcoming forum on access to financial services in the District of Columbia, and plan future activities.

Persons desiring additional information, or planning a presentation to the Committee, should contact Committee Chairperson Lewis M. Anthony, 202-483-3262, or Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC.
Lisa M. Kelly,
Special Assistant to the Staff Director, Regional Programs Coordination Unit.

[FR Doc. 00-13676 Filed 5-31-00; 8:45 am]

BILLING CODE 6335-01-F